NATIONAL AERONAUTICS AND SPACE ADMINISTRATION

48 CFR Part 1805

RIN 2700-AD18

Announcement of Contract Awards

AGENCY: National Aeronautics and Space Administration.

ACTION: Final rule.

SUMMARY: This final rule revises the NASA FAR Supplement (NFS) by amending the anticipated value at which public announcements are required from $25M million or greater to $5 million or greater.

EFFECTIVE DATE: September 29, 2005.

FOR FURTHER INFORMATION CONTACT: Sheryl Goddard, NASA, Office of Procurement, Program Operations Division; (703) 553-2519; e-mail: Sheryl.Goddard@nasa.gov.

SUPPLEMENTARY INFORMATION: The NASA HQ Office of Strategic Communications is extending the notification process to Members of Congress and the public for all new contract actions with anticipated values $5 million or greater. This final rule implements this change.

A. Regulatory Flexibility Act

This final rule does not constitute a significant revision within the meaning of FAR 1.501 and Public Law 98-577, and publication for public comment is not required. However, NASA will consider comments from small entities concerning the affected NFS Part 1805 in accordance with 5 U.S.C. 610.

B. Paperwork Reduction Act

The Paperwork Reduction Act does not apply because the changes do not impose recordkeeping or information collection requirements which require the approval of the Office of Management and Budget under 44 U.S.C. 3501, et seq.

List of Subjects in 48 CFR Part 1805

Government Procurement.

Tom Luedtke,
Assistant Administrator for Procurement.

Accordingly, 48 CFR Part 1805 is amended as follows:

PART 1805—PUBLICIZING CONTRACT ACTIONS

1. The authority citation for 48 CFR Part 1805 continues to read as follows:

Authority: 42 U.S.C. 2473(c)(1).

§ 1805.303 [Amended]

2. In paragraph (a)(i) of § 1805.303, revise the phrase “of $25 million or greater.” to read “of $5 million or greater.”

[FR Doc. 05-19398 Filed 9-28-05; 8:45 am]

BILLING CODE 7510-01-P